DEPARTMENT OF COMMERCE

National Oceanic and Atmospheric Administration

Agency Information Collection Activities; Submission to the Office of Management and Budget (OMB) for Review and Approval; Comment Request; Using Quick Response Surveys To Understand Public Perception and Response

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 30, 2025.

ADDRESSES: Interested persons are invited to submit written comments to Adrienne Thomas, NOAA PRA Officer, at NOAA.PRA@noaa.gov. Please reference OMB Control Number 0648-0805 in the subject line of your comments. All comments received are part of the public record and will generally be posted on https://www.regulations.gov without change. Do not submit Confidential Business Information or otherwise sensitive or protected information.

FOR FURTHER INFORMATION CONTACT: Requests for additional information or specific questions related to collection activities should be directed to Ji Sun Lee, DOC/NOAA/NWS/OSTI, 1325 East West Highway, Silver Spring, MD 20910, (301) 349-6175, jisun.lee@noaa.gov.

SUPPLEMENTARY INFORMATION:

I. Abstract

This is a request for revision and extension of an approved information collection.

The proposed collection is sponsored by the National Weather Service (NWS) Office of Science and Technology Integration (OSTI). The collection is permitted under 15 U.S.C. ch. 111, Weather Research and Forecasting Information, that directs NOAA to focus on improving its understanding of how the public receives, interprets, and responds to warnings and forecasts of high impact weather events that endanger life and property. The purpose of the collection is to improve how the NWS communicates risks posed by hazardous weather or water events to the public that are most likely to result in action to mitigate the risk. Information from this collection will help the agency meet its mission to “provide weather, water and climate data, forecasts, warnings, and impact-based decision support services for the protection of life and property and enhancement of the national economy.”

This collection aims to create an online survey system for collecting data on the publics' perception and response to four different hazards: tornados, thunderstorm winds over 70 miles per hour (mph), flash floods, and winter weather. The online surveys will provide event-based reports on hazardous weather events for National Weather Service Forecast Offices, and be the building blocks for a multi-year, cross-sectional database on human perception and response. The survey system will enable individual National Weather Service Weather Forecast Offices (WFOs) to disseminate Quick Response Surveys (QRS) soon after a hazardous event occurs to collect perishable data on the publics' perceptions and response. WFOs will distribute the QRSs using web links on NWS social media and core partners' social media or email lists. Surveys will ask the public questions on timing, location, weather information sources, motivations and influences for taking protective action to gain insights into how NWS warning communications interact with these factors to result in protective action behaviors.

The collection is being revised to remove the Weather and Society Survey. The agency no longer collects information using the Weather and Society Survey.

II. Method of Collection

The primary method of data collection will be a web-based survey.

III. Data

OMB Control Number: 0648-0805.

Form Number(s): None.

Type of Review: Regular (Extension and revision of a current information collection).

Affected Public: Individuals or households.

Estimated Number of Respondents: 90,000.

Estimated Time per Response: 10 minutes.

Estimated Total Annual Burden Hours: 15,000.

Estimated Total Annual Cost to Public: $0.

Respondent's Obligation: Voluntary.

Legal Authority: 15 U.S.C. Ch. 111, Weather Research and Forecasting Information.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-05488 Filed 3-28-25; 8:45 am]

BILLING CODE 3510-KE-P